DEPARTMENT OF TRANSPORTATION

Federal Transit Administration

Early Scoping Notice for an Alternatives Analysis of Proposed Transit Improvements in the Westside Extension Transit Corridor of Los Angeles, CA

AGENCY: Federal Transit Administration, DOT.

ACTION: Early Scoping Notice.

SUMMARY: The Federal Transit Administration (FTA) and the Los Angeles County Metropolitan Transportation Authority (LACMTA) issue this early scoping notice to advise other agencies and the public that they intend to explore, in the context of the Council on Environmental Quality's early scoping process, alternative means of improving transit capacity and service in the Westside Extension Transit Corridor of Los Angeles, California. The early scoping process is part of a planning Alternatives Analysis (AA) required by 49 United States Code (U.S.C.) 5309, that will lead to the selection of a Locally Preferred Alternative by the LACMTA Board and Southern California Association of Governments (SCAG). Early scoping meetings have been planned and are announced below.

The Westside Extension Transit Corridor is east-west oriented and includes portions of five jurisdictions: the cities of Los Angeles, West Hollywood, Beverly Hills, Santa Monica, as well as portions of unincorporated County of Los Angeles. The study area generally extends north to the base of the Santa Monica Mountains along Hollywood, Sunset and San Vicente Boulevards, east to the Metro Rail stations at Hollywood/Highland and Wilshire/Western, south to Pico Boulevard, and west to the Pacific Ocean. The Alternatives Analysis will study transit extensions from the terminus of the Metro Rail Purple Line at the Wilshire/Western station or the Metro Rail Red Line at the Hollywood/Highland station to downtown Santa Monica.

After planning the Alternatives Analysis and selection of a Locally Preferred Alternative (LPA), the LPA will then be the subject of the appropriate environmental review under the National Environmental Policy Act (NEPA). If the selected LPA would have significant impacts, an environmental impact statement (EIS), combined with a California environmental impact report (EIR) would be initiated with a Notice of Intent in the Federal Register and final public scoping of the EIS/EIR. In particular, the purpose and need for the project, the range of alternatives to be considered in the EIS/EIR, the environmental and community impacts to be evaluated, and the methodologies to be used, would be subject to public and interagency review and comment, in accordance with 23 U.S.C. 139.

DATES: Written comments on the scope of the planning Alternatives Analysis, including the alternatives to be considered and the impacts to be assessed, should be sent to LACMTA at the address below by November 1, 2007. See ADDRESSES below for the address to which written public comments may be sent. Early scoping meetings to accept public comments on the scope of the Alternatives Analysis will be held on the following dates:

• Thursday, October 11, 2007, from 6 p.m. to 8 p.m. Pan Pacific Recreation Center, 7600 Beverly Boulevard, Los Angeles, CA 90036.

• Thursday, October 16, 2007, from 6 p.m. to 8 p.m. Wilshire United Methodist Church, 4350 Wilshire Blvd, Los Angeles, CA 90010.

• Wednesday, October 17, 2007, from 6 p.m. to 8 p.m. Beverly Hills Public Library Auditorium, 444 North Rexford Drive, Beverly Hills, CA 90210.

• Thursday, October 18, 2007, from 6 p.m. to 8 p.m. Santa Monica Public Library, 601 Santa Monica Blvd., Santa Monica, CA 90401.

The draft purpose and need for the project and the initial set of alternatives proposed for study will be presented at these meetings. The buildings and facilities used for the scoping meetings are accessible to persons with disabilities. Any individual who requires special assistance, such as a sign language interpreter, to participate in a scoping meeting should contact Ms. Jody Litvak, LACMTA at 213-922-1240 or Litvakj@metro.net.

Scoping materials will be available at the meetings and are also available on the LACMTA Web site at http://www.metro.net/westside. Hard copies of the scoping materials are available from Ms. Jody Litvak, LACMTA at 213-922-1240 or Litvakj@metro.net.

An interagency scoping meeting will be held on Wednesday, October 10, 2007, from 3 p.m. to 4:30 p.m. at the Sheriff's Station Briefing Room, 720 N. San Vicente Blvd, West Hollywood, CA 90069. Representative of Native American tribal governments and of all Federal, State, and local agencies that may have an interest in any aspect of the project will be invited by phone letter, or e-mail.

ADDRESSES: Written comments should be sent to Mr. David Mieger, AICP, Project Manager and Deputy Executive Officer, Los Angeles County Metropolitan Transportation Authority, One Gateway Plaza, Los Angeles, CA 90012, phone 213-922-3040, e-mail miegerd@metro.net. The locations of the early scoping meetings are given above under DATES.

FOR FURTHER INFORMATION CONTACT: Mr. Ray Tellis, Team Leader, Los Angeles Metropolitan Office, Federal Transit Administration, 888 South Figueroa Street, Suite 1850, Los Angeles, CA 90017, phone 213-202-3950, e-mail ray.tellis@dot.gov.

SUPPLEMENTARY INFORMATION:

Early Scoping

The FTA and LACMTA invite all interested individuals and organizations, public agencies, and Native American tribes to comment on the scope of analyses, including the purpose and need for transit improvements in the corridor, the alternatives to be studied, and the impacts to be evaluated in the planning Alternatives Analysis. Comments at this time should focus on the purpose and need for transit improvements in the corridor; alternatives that may be less costly or have less environmental impacts while achieving similar transportation objectives; and the identification of any significant social, economic, or environmental issues relating to the alternatives.

Purpose and Need for Action: The project purpose is to improve public transit service and mobility in the Westside Extension Corridor. The project would provide the cities of Los Angeles, West Hollywood, Beverly Hills, and Santa Monica with improved fixed-guideway east-west transit service between the existing terminus of the Metro Red Line and Metro Purple Lines near Western Avenue in the City Los Angeles and Ocean Avenue in the City of Santa Monica. Possible western extensions from the Metro Purple Line would generally follow Wilshire Boulevard (from the Metro Purple Line Wilshire/Western Station). Possible extensions from the Metro Red Line would generally follow Santa Monica Boulevard (from the Metro Red Line Hollywood/Highland Station). The overall goal of the proposed project is to improve mobility in the Westside Extension Corridor by extending the benefits of the existing Metro Red/Metro Purple Line rail and bus investments beyond the current terminus. Mobility problems and potential improvements for this corridor have been well documented in many studies, including numerous Metro Red Line planning studies, Southern California Association of Governments (SCAG) planning studies, the Mid-City/Westside Transit Corridor Re-Evaluation/Major Investment Study (2000), the Metro Rapid Demonstration Project (2000), the Mid-City/Westside Transit Corridor Draft EIS/EIR (2001), the American Public Transportation Association Review of Wilshire Corridor Tunneling (2005), and in the Southern California Association of Governments Regional Transportation Plan (2004). These studies can be reviewed at the Dorothy Peyton Gray Transportation Library located on the 15th Floor or Metro Headquarters, One Gateway Plaza, Los Angeles, CA 90012. Additional considerations supporting the project's need include:

• The concentration of activity centers and destinations in the Westside Extension Corridor;

• Increasing traffic congestion on the highway network throughout the Westside Extension Corridor, which has led to public and political support for a high-capacity transit alternative to the automobile;

• The “Centers Concept” Land Use Policy of the City of Los Angeles which is transit-based;

• The existing concentration of transit supportive land uses in the Westside Extension Corridor.

• The high population and employment densities in the Westside Extension Corridor.

• Local redevelopment plans that are highly supportive of, and dependent on, high capacity transit services in the Westside Extension Corridor.

• The existing high ridership levels on bus lines in the Westside Extension Corridor.

• Significant transit dependent population in the Westside Extension Corridor.

• Forecasts of significant future population and employment growth in the Westside Extension Corridor.

• Existing and future travel demand patterns that demonstrate a strong and growing demand for high-capacity transit in the Westside Extension Corridor.

• Emerging travel patterns associated with a job-rich study area that has led to significant westbound congestion during the morning rush hours and corresponding eastbound congestion during the evening rush hours.

• Local policy directed toward travel demand management and transit solutions rather than the expansion of the street and highway network.

Alternatives

The Westside Extension Transit Corridor Study proposes to extend transit from the terminus of the Metro Purple Line at the Wilshire/Western station or the Metro Red Line at the Hollywood/Highland station to downtown Santa Monica. Two primary alignments have been considered historically:

• Wilshire Boulevard Alignment from Wilshire/Western station via Wilshire Boulevard to Santa Monica Boulevard and west on Santa Monica Boulevard to Century City, then transitioning back to Wilshire Boulevard and proceeding along Wilshire Boulevard near Westwood Boulevard along Wilshire Boulevard to downtown Santa Monica (approximately 13 miles).

• Santa Monica Boulevard Alignment starting from the Hollywood/Highland Metro Red Line proceeding west on Hollywood Boulevard and transitioning to Santa Monica Boulevard to Century City, then transitioning to Wilshire Boulevard near Westwood Boulevard and proceeding along Wilshire Boulevard to downtown Santa Monica (approximately 12.5 miles).

Heavy Rail Transit, the transit mode that is currently used in the Metro Red Line and Metro Purple Line subway system, is being considered. It normally follows an underground configuration although ground-surface and aerial configurations may also be considered in some locations. Other transit modes, including Bus Rapid Transit (BRT) and other forms of rail transit, may also be considered. Possible station sites along the Wilshire Boulevard Alignment are Wilshire/Crenshaw, Wilshire/La Brea, Wilshire/Fairfax, Wilshire/La Cienega, Wilshire/Beverly Dr., Century City, Santa Monica/Westwood, Wilshire/Westwood Village/I-405, Wilshire/Bundy, Wilshire/26th St., Wilshire/16th St., and Wilshire/4th St. (12 stations). Possible station sites along the Santa Monica Boulevard Alignment are Sunset/Fairfax or Santa Monica/Fairfax, Santa Monica/La Cienega or Santa Monica/San Vicente, Santa Monica/Beverly, Santa Monica/Rodeo, Century City, Santa Monica/Westwood, Wilshire/Westwood Village/I-405, Wilshire/Bundy, Wilshire/26th St., Wilshire/16th St., and Wilshire/4th St. (11 stations).

Future No-Build Alternative—The study will consider the transportation and environmental effects if no new major transit investments beyond those that have already been planned are implemented in this corridor. This alternative will include the highway and transit projects in the current Metro Long Range Transportation Plan and the 2030 Southern California Association of Governments Regional Transportation Plan. For purposes of the Alternatives Analysis, the major fixed guideway investments under study for the Exposition Transit Corridor Phase 2 and Crenshaw Transit Corridor projects would not be included in the Future No-Build Alternative. The completion of the Metro Rapid Bus Program would be included as well as possible additional feeder bus networks to serve the region's major activity centers.

Transportation System Management Alternative (TSM)—The study will consider the effects of modest improvements in the highway and transit systems beyond those in the Future No-Build Alternative. The TSM Alternative would evaluate low-cost enhancements to the Future No-Build Alternative and would emphasize transportation system upgrades, such as intersection improvements, minor road widening, traffic engineering actions, bus route restructuring, shortened bus headways, expanded use of articulated buses, reserved bus lanes, expanded park-and-ride facilities, express and limited-stop service, signalization improvements, and timed-transfer operations.

In addition to the alternatives described above, other alternatives identified through the early scoping process will be considered for potential inclusion in the Alternatives Analysis. Alternative modes, vertical or horizontal alignments, or station locations may emerge from the early scoping process.

FTA Procedures

Early scoping is an optional element of the National Environmental Policy Act (NEPA) process that is particularly useful in situations where, as here, a proposed action (the locally preferred alternative) has not been identified and alternative modes and major alignment variations are under consideration in a broadly-defined corridor. While NEPA scoping normally follows issuance of a notice of intent, which describes the proposed action, it “may be initiated earlier, as long as there is appropriate public notice and enough information available on the proposal so that the public and relevant agencies can participate effectively.” See the Council on Environmental Quality's “Forty Most Asked Questions Concerning CEQ's National Environmental Policy Act Regulations,” 46 FR 18026, 18030 (1981). In this case, the available information is more than adequate to permit the public and relevant agencies to participate effectively in early scoping and the planning Alternatives Analysis.

LACMTA may seek New Starts funding for the proposed project under 49 U.S.C. 5309 and will, therefore, be subject to New Starts regulation (49 Code of Federal Regulations [CFR] Part 611). The New Starts regulation requires a planning Alternatives Analysis that leads to the selection of a Locally Preferred Alternative by LACMTA and the inclusion of the locally preferred alternative in the long-range transportation plan adopted by the Southern California Association of Governments. The planning Alternatives Analysis will examine alignments, technologies, station locations, costs, funding, ridership, economic development, land use, engineering feasibility, and environmental factors in the corridor. The New Starts regulation also requires the submission of certain project-justification information in support of a request to initiate preliminary engineering, and this information is normally developed during the Alternatives Analysis. At the conclusion of the Alternatives Analysis, a locally preferred alternative—the “proposed action”—will be determined, as well as the appropriate NEPA process—an environmental assessment or environmental impact statement—to be undertaken for the proposed action. If preparation of an environmental impact statement is warranted, a notice of intent will be published in the Federal Register and the scoping of the EIS/EIR will be completed by soliciting and considering comments on the purpose and need for the proposed action, the range of alternatives to be considered in the EIS/EIR, and the potentially significant environmental and community impacts to be evaluated in the EIS/EIR. In conjunction with this final scoping of the EIS/EIR and consistent with provisions of 23 U.S.C. 139, invitations will be extended to other Federal and non-Federal agencies that may have an interest in this matter to be participating agencies. A plan for coordinating public and agency participation in the environmental review process and for commenting on the issues under consideration at various milestones of the process will be prepared and posted on the on the LACMTA Web site at http://www.metro.net/westside.

Issued on September 26, 2007.
Leslie T. Rogers,
Regional Administrator, Region IX, Federal Transit Administration.

[FR Doc. E7-19363 Filed 9-28-07; 8:45 am]

BILLING CODE 4910-57-P